DEPARTMENT OF THE INTERIOR

National Park Service

[NPS-WASO-NRNHL-19677; PPWOCRADI0, PCU00RP14.R50000]

National Register of Historic Places; Notification of Pending Nominations and Related Actions

AGENCY: National Park Service, Interior.

ACTION: Notice.

SUMMARY: The National Park Service is soliciting comments on the significance of properties nominated before October 24, 2015, for listing or related actions in the National Register of Historic Places.

DATES: Comments should be submitted by December 14, 2015.

ADDRESSES: Comments may be sent via U.S. Postal Service to the National Register of Historic Places, National Park Service, 1849 C St. NW., MS 2280, Washington, DC 20240; by all other carriers, National Register of Historic Places, National Park Service, 1201 Eye St. NW., 8th floor, Washington, DC 20005; or by fax, 202-371-6447.

SUPPLEMENTARY INFORMATION: The properties listed in this notice are being considered for listing or related actions in the National Register of Historic Places. Nominations for their consideration were received by the National Park Service before October 24, 2015. Pursuant to section 60.13 of 36 CFR part 60, written comments are being accepted concerning the significance of the nominated properties under the National Register criteria for evaluation.

Before including your address, phone number, email address, or other personal identifying information in your comment, you should be aware that your entire comment—including your personal identifying information—may be made publicly available at any time. While you can ask us in your comment to withhold your personal identifying information from public review, we cannot guarantee that we will be able to do so.

CALIFORNIA

Madera County

Devils Postpile National Monument Ranger Cabin, Minaret Summit Rd., Mammoth Lakes, 15000859

Solano County

Harrier, Daniel Webster, House, 739 Ohio St., Vallejo, 15000860

FLORIDA

Franklin County

Marshall House, N. bay side shore, Little St. George Island, Little St. George Island, 15000861

Osceola County

Monument of States, E. Monument Ave. & Lakeview Dr., Kissimmee, 15000862

IOWA

Dallas County

Minburn Railroad Depot, 210 4th St., Minburn, 15000863

NORTH CAROLINA

Dare County

U-576 and BLUEFIELDS (shipwrecks and remains), (World War II Shipwrecks along the East Coast and Gulf of Mexico MPS) Address Restricted, Hatteras, 15000864

OKLAHOMA

Beckham County

Vannerson Homestead, Address Restricted, Erick, 15000865

Cleveland County

University of Oklahoma Armory, 103 W. Brooks St., Norman, 15000866

Garfield County

Fuksa, John and Mary, Farm, 1228 E0580 Rd., Bison, 15000867

Kisner, Robert R. and Minnie L., House, 1111 Wynona Ave., Enid, 15000870

Marshall Hall, 100 S. University Ave., Enid, 15000868

Public Library of Enid and Garfield County, 120 W. Maine St., Enid, 15000869

Santa Fe Freight Depot, 702 N. Washington Ave., Enid, 15000871

Kay County

Lake Ponca Duck Pond Historic District, L.A. Cann Dr. & Edam Rd., Ponca City, 15000872

Oklahoma County

Fairview Community Center, 206 E. Broadway, Fairview, 15000873

Santa Fe Depot, 146 S. E.K. Gaylord Blvd., Oklahoma City, 15000874

Rogers County

Foyil Filling Station, (Route 66 in Oklahoma MPS) 12243 S. Andy Payne Blvd., Claremore, 15000875

Tulsa County

Belmont Apartments, 1314 S. Denver Ave., W., Tulsa, 15000876

TEXAS

Dallas County

Sharrock, Everard Jr., Farm, 6900 Grady Niblo Rd., Dallas, 15000877

VIRGINIA

Loudoun County

Stoke, 23587 Stoke Farm Ln., Aldie, 15000878

Page County

Locust Grove, 6601 Ida Rd., Stanley, 15000879

WASHINGTON

King County

Woolworth, F.W., Company Store, 724 S. 3rd St., Renton, 15000880

Spokane County

Christiansen, George and Blanche, House, 1329 E. Overbluff Rd., Spokane, 15000881

Authority: 60.13 of 36 CFR part 60.

Dated: October 29, 2015.
J. Paul Loether,
Chief, National Register of Historic Places/National Historic Landmarks Program.

[FR Doc. 2015-30104 Filed 11-25-15; 8:45 am]

BILLING CODE 4312-51-P